DEPARTMENT OF TRANSPORTATION

Federal Aviation Administration

14 CFR Part 39

[Docket No. FAA-2008-0164; Directorate Identifier 2007-SW-43-AD; Amendment 39-15375; AD 2008-04-03]

RIN 2120-AA64

Airworthiness Directives; Eurocopter France Model AS-365N2 and N3, SA-365C, C1 and C2, and SA-365N and N1 Helicopters

AGENCY: Federal Aviation Administration (FAA), Department of Transportation (DOT).

ACTION: Final rule; request for comments.

SUMMARY: We are adopting a new airworthiness directive (AD) for Eurocopter Model AS-365N2 and N3, SA-365C, C1 and C2, and SA-365N and N1 helicopters. This AD results from mandatory continuing airworthiness information (MCAI) originated by an aviation authority to identify and correct an unsafe condition on an aviation product. The European Aviation Safety Agency (EASA), the Technical Agent for France, with which we have a bilateral agreement, states in the MCAI:

This Emergency Airworthiness Directive is issued following several reports of tightening torque loss detected on the main rotor hub (MRH)-to-main rotor mast bolted attachment. These findings were made on EUROCOPTER-assembled attachments with less than 300 operating hours.

A loss of tightening torque on the MRH-to-main rotor mast attachment bolt could lead to loss of the main rotor head.

This AD requires actions that are intended to address the unsafe condition caused by a loss of tightening torque on the MRH attachment bolts.

DATES: This AD becomes effective March 6, 2008.

The Director of the Federal Register approved the incorporation by reference of Eurocopter Emergency Alert Service Bulletin No. 62.00.22 and No. 65.44, both dated April 10, 2006, as of March 6, 2008.

We must receive comments on this AD by April 21, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Jim Grigg, Aviation Safety Engineer, FAA, Rotorcraft Directorate, Safety Management Group, Fort Worth, Texas 76193-0111, telephone (817) 222-5126, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued an MCAI in the form of EASA EAD No. 2006-0084-E, dated April 11, 2006 (referred to after this as “the MCAI”), to correct an unsafe condition for these French-certificated products. The MCAI states:

This Emergency Airworthiness Directive is issued following several reports of tightening torque loss detected on the main rotor hub (MRH)-to-main rotor mast bolted attachment. These findings were made on EUROCOPTER-assembled attachments with less than 300 operating hours.

Misinterpretation of the assembly documentation used by EUROCOPTER Marignane may have led to the assembly of these attachments with no grease applied to the nut threads, which leads to a reduction in the tightening loads.

A loss of tightening torque on the MRH-to-main rotor mast attachment bolt could lead to loss of the main rotor head. You may obtain further information by examining the MCAI and service information in the AD docket.

Relevant Service Information

Eurocopter has issued Alert Service Bulletin (ASB) No. 62.00.22, applicable to Model AS-365N2 and N3, and SA-365N and N1 helicopters, and ASB 65.44, applicable to Model SA-365C, C1, and C2 helicopters, both dated April 10, 2006. The actions described in the MCAI are intended to correct the same unsafe condition as that identified in this service information.

FAA's Determination and Requirements of This AD

This product has been approved by the aviation authority of France, and is approved for operation in the United States. Pursuant to our bilateral agreement with this State of Design, we have been notified of the unsafe condition described in the MCAI and the service information. We are issuing this AD because we evaluated all pertinent information and determined the unsafe condition exists and is likely to exist or develop on other products of these same type designs.

Differences Between This AD and the MCAI or Service Information

We have reviewed the MCAI and related service information and, in general, agree with their substance. The AD requires “inspections” rather than “checks” of the tightening torque. It also uses the term “time-in-service” rather than “flying hours”. In making these changes, we do not intend to differ substantively from the information provided in the MCAI.

These differences are highlighted in the “Differences Between the FAA AD and the MCAI” section in the AD.

Costs of Compliance

We estimate that this AD will affect 36 helicopters of U.S. registry and that it will take about 4 work hours per helicopter to perform the tightening torque inspections. The average labor rate is $80 per work-hour. Based on these figures, we estimate the total cost for this fleet of helicopters to be $11,520, or $320 per helicopter, assuming there will not be 4 or more adjacent bolts with torque less than 3.2 MdaN.

FAA's Determination of the Effective Date

An unsafe condition exists that requires the immediate adoption of this AD. The FAA has found that the risk to the flying public justifies waiving notice and comment prior to adoption of this rule because of a discovery of certain MRH attachment bolts with too little tightening torque, which could result in loss of the main rotor head, and subsequent loss of control of the helicopter. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0164; Directorate Identifier 2007-SW-43-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-03 Eurocopter: Amendment 39-15375. Docket No. FAA-2008-0164; Directorate Identifier 2007-SW-43-AD.

Effective Date

(a) This airworthiness directive (AD) becomes effective on March 6, 2008.

Other Affected ADs

(b) None.

Applicability

(c) This AD applies to Model AS-365N2 and N3, SA-365C, C1 and C2, SA-365N and N1 helicopters, certificated in any category.

Reason

(d) The mandatory continued airworthiness information (MCAI) states:

This Emergency Airworthiness Directive is issued following several reports of tightening torque loss detected on the main rotor hub (MRH)-to-main rotor mast bolted attachment. These findings were made on EUROCOPTER-assembled attachments with less than 300 operating hours.

Misinterpretation of the assembly documentation used by EUROCOPTER Marignane may have led to the assembly of these attachments with no grease applied to the nut threads, which leads to a reduction in the tightening loads.

A loss of tightening torque on the MRH-to-main rotor mast attachment bolt could lead to loss of the main rotor head.

Actions and Compliance

(e) Inspect the tightening torque of the MRH to main rotor mast assembly attachment bolts in accordance with paragraph 2.B. of Eurocopter Alert Service Bulletin (ASB) No. 62.00.22, applicable to Model AS-365N2 and N3, and SA365N and N1 helicopters, or ASB No. 65.44, applicable to Model SA-365C, C1, and C2 helicopters, both dated April 10, 2006, unless already done:

(1) On or before reaching 300 hours TIS, for helicopters with less than 280 hours time-in-service (TIS); or

(2) Within 20 hours TIS, for helicopters with 280 or more hours TIS.

Differences Between the FAA AD and the MCAI

(f) This AD requires “inspections” rather than “checks” of the tightening torque. It also uses the term “time-in-service” rather than “flying hours”.

Subject

(g) Air Transport Association of America (ATA) Code 5220, Main Rotor Head.

Other Information

(h) The following provisions also apply to this AD:

(1) Alternative Methods of Compliance (AMOCs): The Manager, Safety Management Group, FAA, has the authority to approve AMOCs for this AD, if requested using the procedures found in 14 CFR 39.19. Send information to ATTN: Jim Grigg, Aviation Safety Engineer, FAA, Rotorcraft Directorate, Safety Management Group, Fort Worth, Texas 76193-0111, telephone (817) 222-5126, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI European Aviation Safety Agency (EASA) AD No. 2006-0084-E, dated April 11, 2006, contains related information.

Material Incorporated by Reference

(j) The Director of the Federal Register approved the incorporation by reference of the service information specified in Table 1 of this AD under 5 U.S.C. 552(a) and 1 CFR part 51.

(k) For service information identified in this AD, contact American Eurocopter Corporation, 2701 Forum Drive, Grand Prairie, Texas 75053-4005, telephone (972) 641-3460, fax (972) 641-3527.

(l) You may review copies of the service information at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Table 1.—Material Incorporated by Reference
ASB | Pages | Revision | Date
Eurocopter ASB No. 62.00.22 | 6 through 8 | Revision 0 | April 10, 2006.
Eurocopter ASB No. 65.44 | 6 through 8 | Revision 0 | April 10, 2006.

Issued in Fort Worth, Texas on February 6, 2008.
Scott A. Horn,
Acting Manager, Rotorcraft Directorate, Aircraft Certification Service.

[FR Doc. E8-2849 Filed 2-19-08; 8:45 am]

BILLING CODE 4910-13-P